DEPARTMENT OF AGRICULTURE

Food and Nutrition Service

Agency Information Collection Activities: Proposed Collection; Comment Request—Federal Claims Collection Methods for Supplemental Nutrition Assistance Program Recipient Claims

AGENCY: Food and Nutrition Service, USDA.

ACTION: Notice.

SUMMARY: In accordance with the Paperwork Reduction Act of 1995, this Notice invites the general public and other public agencies to comment on proposed information collections. This Notice of Proposed Information Collection announces the intent of the Food and Nutrition Service to revise and extend the information collection requirements associated with initiating and conducting Federal collection actions against households with delinquent Supplemental Nutrition Assistance Program (SNAP) recipient debts.

DATES: Written comments must be submitted on or before February 19, 2013 to be assured consideration.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate, automated, electronic, mechanical, or other technological collection techniques or other forms of information technology.

Send comments to Jane Duffield, Chief, State Administration Branch, Supplemental Nutrition Assistance Program, Food and Nutrition Service, USDA, 3101 Park Center Drive, Room 818, Alexandria, Virginia 22302. Comments may also be submitted via fax to the attention of Jane Duffield at 703-605-0795. Comments will also be accepted through the Federal eRulemaking Portal. Go to http://www.regulations.gov and follow the online instructions for submitting comments electronically.

All written comments will be open for public inspection at the office of the Food and Nutrition Service, U.S. Department of Agriculture, 3101 Park Center Drive, Alexandria, Virginia 22302, Room 818.

All comments will be summarized and included in the request for Office of Management and Budget approval of the information collection. All comments will become a matter of public record.

FOR FURTHER INFORMATION CONTACT: Debra Utting at (703) 305-2439.

SUPPLEMENTARY INFORMATION:

Title: Federal Claims Collection Methods for Supplemental Nutrition Assistance Program Recipient Claims

OMB Number: 0584-0446

Form Number: None

Expiration Date: January 31, 2013

Type of Request: Revision of a currently approved collection.

Abstract: Section 13(b) of the Food Stamp Act of 1977, as amended (7 U.S.C. 2022(b)), and Supplemental Nutrition Assistance Program (SNAP) regulations at 7 CFR 273.18 require State agencies to refer delinquent debtors for SNAP benefit over-issuance to the U.S. Department of the Treasury for collection. The Debt Collection Improvement Act of 1996, 31 U.S.C. 3701, et seq., requires these debts to be referred to Treasury for collection when they are 180 days or more delinquent. Through the Treasury Offset Program (TOP), 31 CFR part 285, payments such as Federal income tax refunds, Federal salaries and other Federal payments payable to these delinquent debtors will be offset and the amount applied to the delinquent debt. TOP places a burden on States agencies and/or former SNAP recipients who owe delinquent debts in three areas: 60-day notices from State agencies to debtors that their debt will be referred to TOP; State-level submissions; and automated data processing (ADP).

TOP 60-Day Notice Burden

The burden associated with the information collection involves both the debtors and the State agencies. The TOP 60-day notice notifies the debtor of the proposed referral to TOP and provides the right for review and appeal. The State agency prepares and mails the notices as well as responds to inquiries and appeals. The debtor, in turn, receives and reads the notice and may make an inquiry or appeal the impending action. Based on an average of the number of records for claims the States sent to TOP for calendar years 2009, 2010 and 2011, we estimate that State agencies will produce and send and that debtors will read 240,901 60-day notices. We estimate that the debtors will submit and State agencies will respond to about 16,863 phone and informal inquiries. Debtors will file and the States will respond to an estimated 1,445 appeals each. An additional 3,000 notices will be sent directly from FNS to Federal employees concerning the potential offset of their Federal salary. Historically, 30% of these notices will result in a phone inquiry from a debtor; and approximately 20 will result in a formal appeal to FNS requiring documentation from the State. Thus, the total number of responses for the 60-day notice and debtor inquiry is 522,358 responses (263,129 household responses + 259,229 State Agency responses) per year resulting in an annual reporting burden of 34,510.28 hours. The existing burden for activity relating to the 60-day notice is 36,313.83 hours. The net decrease of 1,803.55 hours is due to a decrease in the number of 60-day notices sent to debtors by State agencies.

TOP State-Level Submissions

Treasury prescribes specific processes and file formats for FNS to use to send debts to TOP. FNS provides guidance and file formats to State agencies and monitors their compliance with such. State agencies must submit specified documents and/or information to FNS and FNS sends required information to Treasury. The first document is an annual letter to FNS certifying that all of the debts submitted in the past and all debts to be submitted in the upcoming calendar year by the State agency to TOP are valid and legally enforceable in the amount stated. Secondly, State agencies report TOP collections on the FNS-209 Status of Claims Against Households report. (The burden for the remainder of the FNS-209 report is already covered under OMB burden number 0584-0069.) FNS estimates that it will take State agencies a total of 26.5 hours per year for these State submissions. This burden has not changed.

TOP ADP Burden

The burden for ADP includes weekly file processing, monthly address requests and system maintenance. Weekly and monthly file processing includes requesting addresses to use to send out 60-day notices, adding and maintaining debts in TOP, correcting errors on unprocessable records, and posting weekly collection files. Much of this activity is completed using automation and involves an estimated 1.4 million records annually. FNS estimates that this activity takes 12,374.82 annual reporting and 689 recordkeeping burden hours. This burden has not changed.

Summary of Estimated Burden

The net aggregate change from the existing to the revised annual burden for this entire Information Collection is a decrease of 1,803.55 hours from the previous submission. For the activity relating to the 60-day notice, we are decreasing the estimated annual burden for State agencies and debtors from 36,313.83 hours to 34,510.28 hours to reflect a decrease in the number of notices and the resulting inquiries and appeals. The State-level submissions portion of the reporting and recordkeeping burden is estimated to require the same number of hours as the currently approved collection, 26.5 hours. The annual ADP portion of this burden package is also estimated to require the same number of hours as the currently approved collection, 12,375 reporting and 689 recordkeeping hours. This results in a final total of 47,600.6 annual burden hours.

Affected Public: State and local government, and former SNAP households

Estimated Number of Respondents: 240,954

Estimated Number of Responses per Respondent: 2.21

Estimated Total Number of Annual Responses: 531,638

Estimated Hours per Response: .09

Estimated Total Annual Burden: 47,600.6

Dated: December 10, 2012.
Audrey Rowe,
Administrator, Food and Nutrition Service.

[FR Doc. 2012-30599 Filed 12-18-12; 8:45 am]

BILLING CODE 3410-30-P